ADMINISTRATIVE OFFICE OF THE UNITED STATES COURTS

Administration of Certain Payments to Chapter 7 Trustees

AGENCY: Administrative Office of the United States Courts.

ACTION: Notice of revision.

SUMMARY: The Administrative Office of the United States Courts has clarified the process governing certain payments to eligible chapter 7 bankruptcy trustees.

DATES: The revisions took effect on June 2, 2022.

FOR FURTHER INFORMATION CONTACT: Kyle Crockett, Clerks Administrator, Court Services Office, Administrative Office of the United States Courts, Thurgood Marshall Federal Judiciary Building, One Columbus Circle NE, Room 4-500, Washington, DC 20544, Telephone (202) 502-1229, or by email at AOml_BAIA2020@ao.uscourts.gov.

SUPPLEMENTARY INFORMATION: The Administrative Office of the United States Courts has revised the regulations for trustee payments under 11 U.S.C. 330(e) to clarify the process by which chapter 7 bankruptcy trustees must certify eligibility for payments, and by which payments will be made, under that subsection. The revised regulations can be found in the Bankruptcy Case Policies section of the United States Courts website at https://www.uscourts.gov/rules-policies/judiciary-policies/bankruptcy-case-policies.

(Authority: 11 U.S.C. 330(e).)

Dated: June 21, 2022.
Gary D. Streeting,
Senior Attorney, Judicial Programs Division.

[FR Doc. 2022-13501 Filed 6-23-22; 8:45 am]

BILLING CODE 2210-55-P